NUCLEAR REGULATORY COMMISSION

[NRC-2012-0002]

Sunshine Act Meetings

AGENCY HOLDING THE MEETINGS: Nuclear Regulatory Commission.

DATE: Weeks of April 16, 23, 30, May 7, 14, 21, 2012.

PLACE: Commissioners' Conference Room, 11555 Rockville Pike, Rockville, Maryland.

STATUS: Public and Closed.

Week of April 16, 2012

Monday, April 16, 2012

9 a.m. Affirmation Session (Public Meeting) (Tentative).

Southern Nuclear Operating Co. (Vogtle Electric Generating Plant, Units 3 and 4) Docket Nos. 52-025-COL & 52-026-COL, Petitioners' Stay Motion (Feb. 9, 2012) (Tentative).

Week of April 23, 2012—Tentative

Tuesday, April 24, 2012

9 a.m. Briefing on Part 35 Medical Events Definitions—Permanent Implant Brachytherapy (Public Meeting) (Contact: Michael Fuller, 301-415-0520).

This meeting will be webcast live at the Web address— www.nrc.gov.

Week of April 30, 2012—Tentative

Monday, April 30, 2012

9:30 a.m. Briefing on Human Capital and Equal Employment Opportunity (EEO) (Public Meeting) (Contact: Kristin Davis, 301-492-2208).

This meeting will be webcast live at the Web address— www.nrc.gov.

Week of May 7, 2012—Tentative

Friday, May 11, 2012

9 a.m. Briefing on Potential Medical Isotope Production Licensing Actions (Public Meeting) (Contact: Jessie Quichocho, 301-415-0209).

This meeting will be webcast live at the Web address— www.nrc.gov.

Week of May 14, 2012—Tentative

There are no meetings scheduled for the week of May 14, 2012.

Week of May 21, 2012—Tentative

There are no meetings scheduled for the week of May 21, 2012.

* The schedule for Commission meetings is subject to change on short notice. To verify the status of meetings, call (recording)—301-415-1292. Contact person for more information: Rochelle Bavol, 301-415-1651.

Additional Information

By a vote of 5-0 on April 12, 2012, the Commission determined pursuant to U.S.C. 552b(e) and § 9.107(a) of the Commission's rules that the above referenced Affirmation be held on April 16, 2012, with less than one week notice to the public.

The NRC Commission Meeting Schedule can be found on the Internet at: http://www.nrc.gov/public-involve/public-meetings/schedule.html.

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by email at william.dosch@nrc.gov. Determinations on requests for reasonable accommodation will be made on a case-by-case basis.

This notice is distributed electronically to subscribers. If you no longer wish to receive it, or would like to be added to the distribution, please contact the Office of the Secretary, Washington, DC 20555 (301-415-1969), or send an email to darlene.wright@nrc.gov.

Dated: April 12, 2012.
Richard J. Laufer,
Technical Coordinator, Office of the Secretary.

[FR Doc. 2012-9316 Filed 4-13-12; 4:15 pm]

BILLING CODE 7590-01-P